NEIGHBORHOOD REINVESTMENT CORPORATION

Finance, Budget & Program Committee Meeting of the Board of Directors; Sunshine Act Meeting Notice

TIME and DATE: 9:00 a.m., Tuesday, November 20, 2012.

PLACE: 1325 G Street NW., Suite 800, Boardroom, Washington, DC 20005.

STATUS: Open.

CONTACT PERSON FOR MORE INFORMATION: Erica Hall, Assistant Corporate Secretary, (202) 220-2376; ehall@nw.org.

AGENDA:

I. Call To Order

II. Executive Session

III. Budget Update

IV. Committee Charter Review

V. Financial Report

VI. Corporate Investment Policy Review

VII. DC Lease and Move Budget Update

VIII. FY 12 & FY 13 Corporate Milestone Report and Dashboard

IX. NFMC and EHLP

X. NeighborhoodLIFT & CityLIFT

XI. FY12 Grants Report

XII. Adjournment

Erica Hall,
Assistant Corporate Secretary.

[FR Doc. 2012-27859 Filed 11-13-12; 11:15 am]

BILLING CODE 7570-02-P